DEPARTMENT OF TRANSPORTATION

Federal Aviation Administration

14 CFR Part 39

[Docket No. 2002-SW-17-AD]

RIN 2120-AA64

Airworthiness Directives; Eurocopter France Model AS 350B3, SA-365N, N1, AS-365N2, AS 365N3, and EC 155B Helicopters

AGENCY: Federal Aviation Administration, DOT.

ACTION: Notice of proposed rulemaking (NPRM).

SUMMARY: This document proposes adopting a new airworthiness directive (AD) for Eurocopter France (Eurocopter) AS 350B3, SA-365N, N1, AS-365N2, AS 365N3, and EC 155B helicopters. This proposal would require modifying the SIREN cargo hook and inspecting the cargo hook locking catch (locking catch) for corrosion. This proposal is prompted by the discovery of internal corrosion on a Siren locking catch that may weaken the locking catch. The actions specified by this proposed AD are intended to detect internal corrosion of the locking catch, which can cause the locking catch to return to an incomplete locking position, undetectable by the operator, and result in an unexpected cargo load release.

DATES: Comments must be received on or before June 23, 2003.

ADDRESSES: Submit comments in triplicate to the Federal Aviation Administration (FAA), Office of the Regional Counsel, Southwest Region, Attention: Rules Docket No. 2002-SW-17-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Carroll Wright, Aviation Safety Engineer, FAA, Rotorcraft Directorate, Regulations Group, Fort Worth, Texas 76193-0111, telephone (817) 222-5120, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2002-SW-17-AD.” The postcard will be date stamped and returned to the commenter.

Discussion

The Direction Generale De L'Aviation Civile (DGAC), the airworthiness authority for France, notified the FAA that an unsafe condition may exist on Eurocopter Model AS 350 B3, AS-365N, N1, AS 365N2, AS 365N3, and EC 155 B helicopters fitted with Siren cargo hooks, part number (P/N) AS-21-5-7. The DGAC advises that corrosion was discovered on a locking catch, which might lead to untimely load release.

Eurocopter has issued Alert Telexes No. 05.00.39, for Model AS 350B3 helicopters; No. 05.00.41, for Model AS 365N, N1, AS 365N2, and AS 365N3 helicopters; and No. 05A002, for Model EC 155B helicopters; all dated December 20, 2001, which specify an initial corrosion check, and verification of Amendment B to prevent any risk of untimely load release due to locking catch corrosion combined with in-flight vibrations. Amendment B requires marking a permanent reference line across the rotating bolt and stationery cover plate for the cargo hook, affixing a placard to the cover plate, and marking the letter “B” on the amendment identification plate of the release unit and on the equipment log card. The DGAC classified these alert telexes as mandatory and issued AD No. 2002-044(A), dated January 23, 2002, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

The proposed paragraph (a) action of this proposed AD for cargo hook, P/N AS-21-5-7, with Amendment B incorporated, may be performed by an owner/operator (pilot), and must be entered into the helicopter records showing compliance with that paragraph in accordance with 14 CFR 43.11 and 91.417(a)(2)(v). This proposed AD would allow a pilot to perform these actions because they involve only manipulating the manual cargo release and checking the reference line for continuity, and can be performed equally well by a pilot or a mechanic. For cargo hook, P/N AS-21-5-7, without Amendment B incorporated, a mechanic must incorporate Amendment B in accordance with the applicable alert telex.

This unsafe condition is likely to exist or develop on other helicopters of the same type designs registered in the United States. Therefore, the proposed AD would require incorporating Amendment B, if not accomplished previously, and checking for corrosion on the locking catch before the first use of the cargo hook each day that the cargo hook is used. Incorporating Amendment B would be required to be accomplished in accordance with the alert telexes described previously.

The FAA estimates that of the 60 helicopters of U.S. registry, 6 helicopters would have the Siren cargo hook installed and would be affected by this proposed AD. The FAA also estimates that it would take approximately 3 work hours per helicopter to incorporate Amendment B and .25 work hour to conduct and record the pilot check with 60 pilot checks performed per year, and that the average labor rate is $60 per work hour. Required parts to incorporate Amendment B would cost $4.00 for each label. Based on these figures, the total cost impact of the proposed AD on U.S. operators is estimated to be $6,504.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2002-SW-17-AD.

Applicability: Model AS 350B3, SA-365N, N1, AS-365N2, AS 365N3, and EC 155B helicopters, with an optional Siren load release unit cargo hook, part number (P/N) AS-21-5-7, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To detect internal corrosion of the Siren cargo hook locking catch (locking catch), which can cause the locking catch to return to an incomplete locking position, undetectable by the operator, and result in an unexpected cargo load release, accomplish the following:

(a) For cargo hook, P/N AS-21-5-7, with Amendment B incorporated, before the first use of the cargo hook on each day that the cargo hook is used, check for corrosion on the locking catch as follows. Amendment B has been incorporated if the letter “B” is marked on the amendment identification plate of the release unit of the cargo hook and placard “G” is installed on the release unit cover plate “D” and reference line “B” is marked over the nut and cover plate as depicted in Figure 1 of this AD. The identification plate is located on cover plate “D”, on the opposite side of the electrical connector. See Figure 1:

(1) With the cargo hook installed, cycle the red manual release control lever several times over its travel range.

(2) Return the red manual release control lever to the initial position.

(3) Determine whether the section of reference line (B) marked on the bolt (A) and the section of reference line (B) marked on the cover plate (D) form a straight line.

(i) If the reference line is straight, the cargo hook is considered airworthy.

(ii) If the reference line is not straight, the cargo hook is unairworthy and may not be used.

(b) The requirements of paragraphs (a) through (a)(ii) may be performed by an owner/operator (pilot) holding at least a private pilot certificate, and must be entered into the aircraft records showing compliance with paragraphs (a) through (a)(ii) of this AD in accordance with 14 CFR 43.11 and 91.417(a)(2)(v).

(c) For cargo hook, P/N AS-21-5-7, without Amendment B, before the next sling load flight, incorporate Amendment B to the cargo hook in accordance with the Accomplishment Instructions, paragraphs 2.A.2.(a) and 2.A.2.(b), of Alert No. 05.00.39, for Model AS 350B3 helicopters; No. 05.00.41, for Model SA-365N, N1, AS-365N2, and AS 365N3 helicopters; and No. 05A002, for Model EC 155B helicopters; all dated December 20, 2001, as applicable.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(e) Special flight permits will not be issued allowing use of the cargo hook until the requirements of this AD are accomplished.

Note 3: The subject of this AD is addressed in Direction Generale De L'Aviation Civile (France) AD 2002-044(A), dated January 23, 2002.

Issued in Fort Worth, Texas, on April 15, 2003.
David A. Downey,
Manager, Rotorcraft Directorate, Aircraft Certification Service.

[FR Doc. 03-9864 Filed 4-21-03; 8:45 am]

BILLING CODE 4910-13-P